DEPARTMENT OF LABOR

Agency Information Collection Activities; Submission for OMB Review; Comment Request; Davis-Bacon Certified Payroll

ACTION: Notice of availability; request for comments.

SUMMARY: The Department of Labor (DOL) is submitting this Wage and Hour Division (WHD)-sponsored information collection request (ICR) to the Office of Management and Budget (OMB) for review and approval in accordance with the Paperwork Reduction Act of 1995 (PRA). Public comments on the ICR are invited.

DATES: The OMB will consider all written comments that the agency receives on or before December 27, 2024.

ADDRESSES: Written comments and recommendations for the proposed information collection should be sent within 30 days of publication of this notice to www.reginfo.gov/public/do/PRAMain. Find this information collection by selecting “Currently under 30-day Review—Open for Public Comments” or by using the search function.

FOR FURTHER INFORMATION CONTACT: Nora Hernandez by telephone at 202-693-8633, or by email at DOL_PRA_PUBLIC@dol.gov.

SUPPLEMENTARY INFORMATION: The Copeland Act requires contractors and subcontractors performing work on federally financed or assisted construction contracts to furnish weekly a statement on the wages paid each covered worker during the prior week. See 40 U.S.C. 3145; 29 CFR 3.3(b). This Copeland Act provision specifically requires the regulations to “include a provision that each contractor and subcontractor each week must furnish a statement on the wages paid each worker during the prior week.” This requirement is implemented by 29 CFR 3.3 and 3.4 and the standard Davis-Bacon contract clauses set forth at 29 CFR 5.5. The regulation at 29 CFR 5.5 (a)(3)(ii)(A) (“Frequency and method of submission”) requires contractors to submit weekly a copy of all payrolls to the federal agency contracting for or financing the construction project. If the agency is not a party to the contract, the contractor will submit the payrolls to the applicant, sponsor, or owner, as the case may be, for transmission to the contracting agency. This provision requires that the payrolls submitted shall set out accurately and completely information required to be maintained under 29 CFR 5.5(a)(3)(ii)(B) (“Information required”).

The information that must be included in the weekly transmittals includes the name of each covered worker; each worker's correct classification(s) of work actually performed; hourly rates of wages paid (including rates of contributions or costs anticipated for bona fide fringe benefits or cash equivalents thereof of the types described in 40 U.S.C. 3141(2)(B) of the Davis-Bacon Act); daily and weekly number of hours actually worked in total and on each covered contract; deductions made; and actual wages paid. See 29 CFR 5.5(a)(3)(i)(B); 29 CFR 5.5(a)(3)(ii)(B). The weekly transmittals also must include an individually identifying number for each employee (e.g., the last four digits of the employee's Social Security number). See 29 CFR 5.5(a)(3)(ii)(B).

The provision at 29 CFR 5.5(a)(3)(ii)(B) also states what must not be included in the weekly transmittal. The weekly transmittal must not include workers' full social security numbers, last known addresses, telephone numbers, and email addresses. That information must be recorded and maintained by the contractors as part of the record-keeping provisions in the regulations at 29 CFR 5.5(a)(3)(i)(B), but it must not be included in the weekly transmittals.

The regulations at 29 CFR 5.5(a)(3)(ii)(C) and 29 CFR 3.3(b) require each contractor to furnish weekly a signed “Statement of Compliance” accompanying the payroll indicating the payrolls are correct and complete and that each covered worker has been paid not less than the proper Davis-Bacon Act prevailing wage rate for the work performed.

The required weekly payroll information may be submitted in any form desired. The information collection request that is the subject of this notice, Optional Form WH-347, is designed to include fields for all of the necessary information so as to satisfy the regulatory and contractual requirements. The weekly submission of a properly executed certification, with the prescribed language set forth on page 2 of Optional Form WH-347, satisfies the requirement for submission of the required “Statement of Compliance.” 29 CFR 5.5(a)(3)(ii)(C).

In addition to the weekly transmittal requirements, the regulations contain separate record retention requirements that require the retention of the weekly transmittals themselves as well as a broader subset of documents and information. Regulations 29 CFR 3.4(b) and 5.5(a)(3)(ii)(G) require contractors to maintain copies of these transmitted weekly certified payrolls for three years after all the work on the prime contract is completed. The record retention provision at 29 CFR 5.5(a)(3)(i) requires contractors performing work on projects subject to the Davis-Bacon and Related Acts (DBRA) to retain the address, telephone number, email address, and social security number of each covered worker, in addition to all of the worker-specific information that must be included on the weekly certified payroll. In addition, whenever a contractor seeks to provide a portion of its required fringe benefits though an unfunded plan (as described in 29 CFR 5.5(a)(1)(v)), the contractor must maintain records showing that the commitment to provide such benefits is enforceable, that the plan or program is financially responsible, that the plan or program has been communicated in writing to the laborers or mechanics affected, and the costs anticipated or the actual cost incurred in providing such benefits. See 29 CFR 5.5(a)(3)(i)(C). Contractors employing apprentices or trainees under approved programs also must maintain written evidence of the registration of apprenticeship programs and certification of trainee programs, the registration of the apprentices and trainees, and the ratios and wage rates prescribed in the applicable programs. Id. § 5.5(a)(3)(i)(D). 29 CFR 5.5(a)(3)(iii) provides that contractors and subcontractors must maintain copies of covered contracts, subcontracts, and related documents.

The Department periodically reviews its information collection requests to ensure that they are necessary and sufficient to effectively and efficiently fulfill the Department's statutory directive to oversee and enforce the Davis-Bacon Act. Substantive edits to the WH-347 form were last made in 2011. The Department reviewed the current form WH-347 and proposed several edits. For additional substantive information about this ICR, see the related notice published in the Federal Register on August 30, 2024 (89 FR 70670).

Comments are invited on: (1) whether the collection of information is necessary for the proper performance of the functions of the Department, including whether the information will have practical utility; (2) the accuracy of the agency's estimates of the burden and cost of the collection of information, including the validity of the methodology and assumptions used; (3) ways to enhance the quality, utility and clarity of the information collection; and (4) ways to minimize the burden of the collection of information on those who are to respond, including the use of automated collection techniques or other forms of information technology.

This information collection is subject to the PRA. A Federal agency generally cannot conduct or sponsor a collection of information, and the public is generally not required to respond to an information collection, unless the OMB approves it and displays a currently valid OMB Control Number. In addition, notwithstanding any other provisions of law, no person shall generally be subject to penalty for failing to comply with a collection of information that does not display a valid OMB Control Number. See 5 CFR 1320.5(a) and 1320.6.

DOL seeks PRA authorization for this information collection for three (3) years. OMB authorization for an ICR cannot be for more than three (3) years without renewal. The DOL notes that information collection requirements submitted to the OMB for existing ICRs receive a month-to-month extension while they undergo review.

Agency: DOL-WHD.

Title of Collection: Davis-Bacon Certified Payroll.

OMB Control Number: 1235-0008.

Affected Public: Businesses or other for-profits, Farms.

Total Estimated Number of Respondent: 11,310,112.

Total Estimated Number of Responses: 122,936.

Total Estimated Annual Time Burden: 10,556,105 hours.

Total Estimated Annual Other Costs Burden: $0.

(Authority: 44 U.S.C. 3507(a)(1)(D))

Nora Hernandez,
PRA Department Clearance Officer.

[FR Doc. 2024-27720 Filed 11-26-24; 8:45 am]

BILLING CODE 4510-27-P